DEPARTMENT OF AGRICULTURE

Submission for OMB Review; Comment Request

June 15, 2000.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: Guaranteed Farm Loans.

OMB Control Number: 0560-0155.

Summary of Collection: The Consolidated Farm and Rural Development Act (CONTACT), as amended, authorizes the Secretary of Agriculture to make and service loans guaranteed by FSA to eligible farmers and ranchers. The statutory authorities for the guaranteed loan program is set out in the Code of Federal Regulations, Title 7, Chapter VII, part 762. The loans made and serviced under 762 include farm operating, farm ownership, and soil and water loans. The loan applicant must be a citizen of the United States, own and operate or become the owner and operator of not larger than a family size farm and be unable to obtain sufficient credit elsewhere at reasonable rates and terms. The Farm Service Agency (FSA) will collect information using several agency forms.

Need and Use of the Information: FSA will collect information to determine lender and loan applicant eligibility for farm loan guarantees, and to ensure the government's financial interests are protected by the lender. FSA will collect some supporting material electronically, via facsimile, telephone, or on line and some information is obtained from other agencies or program areas. If the information were not collected, this would result in unsound loan-making actions due to lack of sufficient information available.

Description of Respondents: Farm; Individuals or households; Business or other for-profit.

Number of Respondents: 14,500.

Frequency of Respondents: Reporting: On occasion.

Total Burden Hours: 228,014.

Food and Nutrition Service

Title: Food Stamp Program—Store Applications.

OMB Control Number: 0584-0008.

Summary of Collection: The Food Stamp Program (FSP) is designed to promote the general welfare and safeguard the health and well being of the Nation's population by raising levels of nutrition among low-income households. Section 2 of the Food Stamp Act of 1977, as amended states in part, that “* * * a Food Stamp Program is herein authorized which will permit low-income households to obtain a more nutritious diet through normal channels of trade by increasing food purchasing power for all eligible households who apply for participation.” Section 9(a) of the Act requires that regulations provide for an application to be submitted by retailers and wholesalers to request approval for authorization to accept and redeem food coupons. The need to collect information is established under the Act to determine the eligibility of retail food stores, wholesale food concerns, and food service organizations applying for authorization to accept and redeem food stamp benefits, to monitor these firms for continued eligibility, to sanction stores for noncompliance with the Act, and for program management. The Food and Nutrition Service (FNS) will collect information using forms FNS-252, Food Stamp Application for Store, FNS252-R, Food Stamp Program Application for Stores-Reauthorization, and FNS 252-2, Application to Participate in the Food Stamp Program for Communal Dining Facility/Others.

Need and Use of the Information: FNS will collect information to determine a firm's eligibility for participation in the Food Stamp program, program administration, compliance monitoring and investigations, and for sanctioning stores found to be violating the program. FNS is also responsible for requiring updates to application information and reviewing that information to determine whether or not the retail food store, wholesale food concern, or food service organization continues to meet eligibility requirements. Owners Employer Identification Numbers (EIN) and Social Security Numbers (SSN) may be disclosed to and used by Federal agencies or instrumentalities that otherwise gave access to EINs and SSNs. FNS and other Federal Government agencies examine such information during compliance reviews, audit review, special studies or evaluation efforts.

Description of Respondents: Business or other for-profit; Not-for-profit institutions; Farms; Federal Government.

Number of Repondents: 62,621.

Frequency of Responses: Reporting: On occasion.

Total Burden Hours: 14,812.

William McAndrew,
Departmental Clearance Officer.

[FR Doc. 00-15468 Filed 6-19-00; 8:45 am]

BILLING CODE 3410-01-M